POSTAL RATE COMMISSION

Mailing Facility Visit

AGENCY: Postal Rate Commission.

ACTION: Notice of commission visit.

SUMMARY: Members of the Commission's staff will visit the Moore Business Communication Services' Thurmont, Maryland facility on November 6, 2001, beginning at 8:30 a.m. The purpose of the visit is to attend a training session that reviews the preparation of workshared First-Class Mail.

DATES: The visit is scheduled for Tuesday, November 6, 2001.

FOR FURTHER INFORMATION CONTACT: Stephen L. Sharfman, General Counsel, Postal Rate Commission, Suite 300, 1333 H Street NW., Washington, DC 20268-0001, 202-789-6820.

Dated: October 9, 2001.
Steven W. Williams,
Acting Secretary.

[FR Doc. 01-25908 Filed 10-12-01; 8:45 am]

BILLING CODE 7710-FW-M